FEDERAL COMMUNICATIONS COMMISSION

Open Commission Meeting, Thursday, July 13 2017

July 6, 2017.

The Federal Communications Commission will hold an Open Meeting on the subjects listed below on Thursday, July 13, 2017 which is scheduled to commence at 10:30 a.m. in Room TW-C305, at 445 12th Street SW., Washington, D.C.

Item No. | Bureau | Subject
1 | Wireline Competition | Title: Call Authentication Trust Anchor (WC Docket No. 17-97). Summary: The Commission will consider a Notice of Inquiry that seeks comment on methods to authenticate telephone calls to further secure our telephone networks against illegal robocallers. The Notice seeks comment on implementing authentication standards for telephone calls, as well as the Commission's role in this process and other public policy considerations.
2 | Consumer & Governmental Affairs | Title: Advanced Methods to Target and Eliminate Unlawful Robocalls (CG Docket No. 17-59). Summary: The Commission will consider a Notice of Inquiry that explores methods by which reassigned telephone number data could be made available to callers to avoid making unwanted calls to consumers.
3 | Consumer & Governmental Affairs | Title: Protecting Consumers from Unauthorized Carrier Changes and Related Unauthorized Charges (CG Docket No. 17-169). Summary: The Commission will consider a Notice of Proposed Rulemaking outlining steps to further curtail slamming and cramming.
4 | Wireline Competition | Title: Rural Call Completion (WC Docket No. 13-39). Summary: The Commission will consider a Second Further Notice of Proposed Rulemaking that proposes rule changes to better address ongoing problems in the completion of long-distance telephone calls to rural areas. The Second Further Notice of Proposed Rulemaking proposes to (1) adopt new rural call completion requirements for covered providers, and (2) eliminate the Commission's existing rural call completion recording, retention, and reporting rules.
5 | Media | Title: Video Description: Implementation of the Twenty-First Century Communications and Video Accessibility Act of 2010 (MB Docket No. 11-43). Summary: The Commission will consider a Report and Order which increases the required hours of video described programming that covered broadcast stations and MVPDs must provide to consumers.
6 | Office of Engineering & Technology | Title: Amendment of Parts 0, 1, 2, 15 and 18 of the Commission's Rules regarding Authorization of Radiofrequency Equipment (ET Docket No. 15-170). Summary: The Commission will consider a First Report and Order that would update and amend its equipment authorization program by replacing two certification procedures with a new Supplier's Declaration of Conformity process, codifying procedures for the electronic labeling of devices, modernizing the requirements related to the importation of electronic equipment, and incorporating up-to-date methods for equipment compliance measurements into the rules.
7 | Office of Engineering & Technology | Title: Amendment of Parts 1, 2, 15, 90 and 95 of the Commission's Rules to Permit Radar Services in the 76-81 GHz Band (ET Docket No. 15-26). Summary: The Commission will consider a Report and Order that would address use of the 76-81 GHz band under the Part 95 rules to support a broad range of vehicular radar uses, such as collision avoidance and adaptive cruise control systems, as well as to expand the types of fixed and mobile radar operations permitted within airport environments.
8 | Office of Engineering & Technology and Wireless Telecommunications | Title: Promoting Spectrum Access for Wireless Microphone Operations (GN Docket No. 14-166); Amendment of Part 15 of the Commission's Rules for Unlicensed Operations in the Television Band, Repurposed 600 MHz Band, 600 MHz Guard Bands and Duplex Gap, and Channel 37, and Amendment of Part 74 of the Commission's Rules for Low Power Auxiliary Stations in the Repurposed 600 MHz Band and 600 MHz Duplex Gap (ET Docket No. 14-165); Expanding the Economic and Innovation Opportunities of Spectrum Through Incentive Auctions (GN Docket No. 12-268). Summary: The Commission will consider an Order on Reconsideration and Further Notice of Proposed Rulemaking that would address licensed and unlicensed wireless microphone operations in the TV bands and various other frequency bands.
9 | Office of General Counsel | Title: Game Show Network, LLC, Complainant v. Cablevision Systems Corp., Defendant (MB Docket No. 12-122); File No. CSR-8529-P. Summary: The Commission will consider a Memorandum Opinion and Order that addresses Exceptions filed to an Initial Decision granting a program carriage complaint.
10 | Enforcement | Title: Enforcement Bureau Action. Summary: The Commission will consider an enforcement action.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-14713 Filed 7-12-17; 8:45 am]

BILLING CODE 6712-01-P